DEPARTMENT OF COMMERCE

International Trade Administration

(A-588-804]

Ball Bearings and Parts Thereof from Japan; Five-year Sunset Review of Antidumping Duty Order: Amended Final Results

AGENCY: Import Administration, International Trade Administration, Department of Commerce.

EFFECTIVE DATE: May 26, 2006.

FOR FURTHER INFORMATION CONTACT: Jeffrey Frank, AD/CVD Operations 5, Import Administration, International Trade Administration, U.S. Department of Commerce, 14th Street and Constitution Avenue, NW., Washington, DC 20230; telephone: (202) 482-0090.

SUPPLEMENTARY INFORMATION:

Background

On May 4, 2006, the Department of Commerce (the Department) published in the Federal Register its final results of the five-year sunset reviews of the antidumping duty orders on ball bearings and parts thereof from Japan and Singapore. See Ball Bearings and Parts Thereof from Japan and Singapore; Five-year Sunset Reviews of Antidumping Duty Orders; Final Results, 71 FR 26321 (May 4, 2006) (Sunset Final Results).

On May 5, 2006, NSK Ltd. (NSK) submitted a ministerial-error allegation, stating that the Department used the incorrect weighted-average margin that would likely prevail if the order were revoked with respect to NSK. Citing the Notice of Amended Final Results of Antidumping Duty Administrative Reviews: Ball Bearings and Parts Thereof from Japan (70 FR 61252 (October 21, 2005), NSK claims that the ultimate margin the Department determined for NSK in the 2003/2004 administrative review was 8.25 percent, not 8.28 percent as the Department stated in the Sunset Final Results.

We have reviewed NSK's allegation and agree that the weighted-average margin we intended to use in the Sunset Final Results was 8.25 percent because that is the ultimate margin resulting from the 2003/2004 administrative review. Therefore, pursuant to section 751(h) of the Tariff Act of 1930, as amended (the Act), and 19 CFR 351.224, we are amending the Sunset Final Results by correcting the error in this notice of amended final results of sunset review.

We are issuing and publishing this determination and notice in accordance with sections 751(h) and 777(i)(1) of the Act.

Dated: May 18, 2006.
David M. Spooner,
Assistant Secretary for Import Administration.

[FR Doc. E6-8169 Filed 5-25-06; 8:45 am]

BILLING CODE 3510-DS-S